DEPARTMENT OF HEALTH AND HUMAN SERVICES

Centers for Disease Control and Prevention

CDC Advisory Committee on HIV and STD Prevention: Notice of Charter Renewal

This gives notice under the Federal Advisory Committee Act (Public Law 92-463) of October 6, 1972, that the CDC Advisory Committee on HIV and STD Prevention of the Department of Health and Human Services, has been renewed for a 2-year period extending through May 11, 2004.

For further information, contact Ron Valdiserri, M.D., Executive Secretary, CDC Advisory Committee on HIV and STD Prevention, 1600 Clifton Road, NE, m/s E-07, Atlanta, Georgia 30333. Telephone 404/639-8002, or fax 404/639-3125.

The Director, Management Analysis and Services Office, has been delegated the authority to sign Federal Register notices pertaining to announcements of meetings and other committee management activities, for both the Centers for Disease Control and Prevention and the Agency for Toxic Substances and Disease Registry.

Dated: April 12, 2002.
Alvin Hall,
Acting Director, Management Analysis and Services Office, Centers for Disease Control and Prevention.

[FR Doc. 02-9466 Filed 4-17-02; 8:45 am]

BILLING CODE 4163-18-P